NATIONAL SCIENCE FOUNDATION

Agency Information Collection Activities: Proposed Collection, Comment Request

AGENCY: National Science Foundation.

ACTION: Notice.

SUMMARY: The National Science Foundation (NSF) is announcing plans to request clearance for this collection. In accordance with the requirement of Section 3506 (c)(2)(A) of the Paperwork Reduction Act of 1995, we are providing opportunity for public comment on this action. After obtaining and considering public comment, NSF will prepare the submission requesting OMB clearance of this collection for no longer than three years.

Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information of respondents, including through the use of automated collection techniques or other forms of information technology.

DATES: Written comments should be received by January 19, 2010, to be assured of consideration. Comments received after that date will be considered to the extent practicable.

ADDRESSES: Written comments regarding the information collection and requests for copies of the proposed information collection request should be addressed to Suzanne Plimpton, Reports Clearance Officer, National Science Foundation, 4201 Wilson Boulevard, Room 295, Arlington, VA 22230, or by e-mail to splimpton@nsf.gov.

FOR FURTHER INFORMATION CONTACT: Suzanne Plimpton on (703) 292-7556 or send e-mail to splimpton@nsf.gov. Individuals who use a telecommunications device for the deaf (TDD) may call the Federal Information Relay Service (FIRS) at 1-800-877-8339 between 8 a.m. and 8 p.m., Eastern time, Monday through Friday.

SUPPLEMENTARY INFORMATION: Title of Collection: Quantitative Evaluation of the ADVANCE Program.

OMB Control No.: 3145-NEW.

Expiration Date of Approval: Not applicable.

Abstract: The ADVANCE Program was established by the National Science Foundation in 2001 to address the underrepresentation and inadequate advancement of women on STEM (Science, Technology, Engineering, and Mathematics) faculties at postsecondary institutions. The evaluation being conducted by Westat focuses on the outcomes of two ADVANCE program components: (a) The first two (2001 and 2003) cohorts of Institutional Transformation (IT) awardees, and (b) both (2002 and 2004) cohorts of individuals receiving ADVANCE Fellows awards. The study will rely on a thorough review of project documents and relevant literature; a survey (facilitated online via WebEx) and an outcome indicator data form (distributed and completed electronically) for the 19 IT awardee institutions; and, a mail survey, with telephone followup as needed, of all 59 former Fellows. In addition, the study will use data from the 2001 and 2008 administrations of the Survey of Doctorate Recipients (SDR) for comparison purposes.

The evaluation of the IT component has two primary goals: to compare selected gender equity outcomes for STEM faculty at the 19 IT Cohorts 1 and 2 institutions and at other similar U.S. four-year colleges and universities that have not subsequently received ADVANCE IT awards, and to develop innovative institutional-level measures of changes in gender equity climate and practices that can be applied to evaluating the outcomes of the IT award. The primary goal of the Fellows evaluation is to compare the career trajectories of ADVANCE Fellows with those of similar individuals who were not awarded these fellowships.

Respondents: Faculty and staff at institutions of higher education and individuals holding doctoral degrees in STEM fields awarded an NSF ADVANCE Fellowship.

Estimated Number of Annual Respondents: 139.

Burden on the Public: 1859 hours.

Dated: November 17, 2009.
Suzanne H. Plimpton,
Reports Clearance Officer, National Science Foundation.

[FR Doc. E9-27928 Filed 11-19-09; 8:45 am]

BILLING CODE 7555-01-P